DEPARTMENT OF TRANSPORTATION

Federal Aviation Administration

Notice of Approval of Finding of No Significant Impact (FONSI) on a Final Environmental Assessment (Final EA); Lake in the Hills Airport, Lake in the Hills, IL

AGENCY: Federal Aviation Administration (FAA), DOT.

ACTION: Notice of approval of documents.

SUMMARY: The Federal Aviation Administration (FAA) is issuing this notice to advise the public of the approval of a Finding of No Significant impact (FONSI) on an Environmental Assessment for proposed Federal actions at Lake in the Hills Airport, Lake in the Hills, Illinois. The FONSI specifies that the proposed Federal actions and local development projects are consistent with existing environmental policies and objectives as set forth in the National Environmental Policy Act of 1969 and will not significantly affect the quality of the environment.

A description of the proposed Federal actions is: (a) To issue an environmental finding to allow approval of the Airport Layout Plan (ALP) for the development items listed below; (b) approval of the Airport Layout Plan (ALP) for the development items listed below; and (c) establish eligibility of the Lake in the Hills Airport Authority to compete for Federal funding for the development projects depicted on the Airport Layout Plan.

The specific items in the local airport development project include: Acquire approximately 102 acres of land in fee simple title and approximately 57 acres of easements; these actions include relocation assistance, as required; install perimeter fencing to control deer and preserve security; Improve Runway 26 Safety Area, Stage 1—acquisition of land needed; Remove Airport design deviations and FAR Part 77 obstructions, Stage 1—acquisition of land needed; Replace Airport rotating beacon; Improve Runway 26 safety area, Stage 2—relocation of Pyott Road; Remove Airport design deviations and 14 CFR part 77 obstructions, Stage 2—acquisition of land needed; Install AWOS-III P/T to support 14 CFR part 135 Operators; Remove Airport design deviations and 14 CFR part 77 Obstructions, Stage 3—removal of buildings and objects; construct storm water management/detention system (dry bottom)—multi-phased construction; construct replacement electrical vault; construct parallel taxiway (for temporary runway use) to meet design standards; install MITL taxiway edge lighting and guidance signs; Remove Airport design deviations and 14 CFR part 77 obstructions, Stage 4—construction of replacement aircraft apron, Phase 1; Remove Airport design deviations and 14 CFR part 77 obstructions, Stage 5—relocation of existing access road to serve new replacement terminal area; construct auto parking in the new replacement terminal area—multi-phased construction; Widen Runway 8-26 to 100 feet; shift runway ends to East to meet design standards (runway safety area, object free area, and pavement width); install MIRL runway edge lights, and PAPI-4 approach lights, REIL lights and supplemental wind cones at each runway end; Remove Airport design deviations and 14 CFR part 77 obstructions, Stage 6—construction of replacement aircraft apron, Phase 2; construct new and replacement aircraft hangar pavements in the new replacement terminal area—multi-phased construction; construct new and replacement aircraft storage hangars in the new replacement terminal area—multi-phased construction; construct new and replacement Fixed Based Operator/Aircraft Maintenance hangars in the new replacement terminal area—multi-phased construction; construct replacement public terminal building in the new replacement terminal area; construct replacement aircraft fuel storage/dispensing facility in the new replacement terminal area; construct new Airport maintenance complex; Extend municipal water and sanitary sewer utilities to existing-to-remain and new building facilities requiring domestic water service and sanitary sewer collection and/or fire protection.

Copies of the environmental decision and the Final EA are available for public information review during regular business hours at the following locations:

1. Lake in the Hills Airport, 8407 Pyott Road, Lake in the Hills, Illinois 60156.

2. Division of Aeronautics—Illinois Department of Transportation, One Langhorne Bond Drive, Capital Airport, Springfield, IL 62707.

3. Chicago Airports District Office, Room 320, Federal Aviation Administration, 2300 East Devon Avenue, Des Plaines, Illinois 60018.

FOR FURTHER INFORMATION CONTACT: E. Lindsay Butler, Airports Environmental Program Manager, Federal Aviation Administration, Chicago Airports District Office, Room 320, 2300 East Devon Avenue, Des Plaines, Illinois 60018. Ms. Butler can be contacted at (847) 294-7723 (voice), (847) 294-7046 (facsimile) or by e-mail at lindsay.butler@faa.gov.

Issued in Des Plaines, Illinois on April 17, 2006.
Jack Delaney,
Assistant Manager, Chicago Airports District Office, FAA, Great Lakes Region.

[FR Doc. 06-4333 Filed 5-9-06; 8:45 am]

BILLING CODE 4910-13-M